DEPARTMENT OF ENERGY

Federal Energy Regulatory Commission

Combined Notice of Filings

Take notice that the Commission has received the following Natural Gas Pipeline Rate and Refund Report filings:

Filings Instituting Proceedings

Docket Numbers: RP19-641-001.

Applicants: Dominion Energy Questar Pipeline, LLC.

Description: Tariff Amendment: 2019 Cleanup, Amended Filing to be effective 3/10/2019.

Filed Date: 2/21/19.

Accession Number: 20190221-5166.

Comments Due: 5 p.m. ET 3/5/19.

Docket Numbers: RP19-642-001.

Applicants: Dominion Energy Overthrust Pipeline, LLC.

Description: Tariff Amendment: 2019 Cleanup, Amended Filing to be effective 3/10/2019.

Filed Date: 2/21/19.

Accession Number: 20190221-5167.

Comments Due: 5 p.m. ET 3/5/19.

Docket Numbers: RP19-682-000.

Applicants: East Tennessee Natural Gas, LLC.

Description: § 4(d) Rate Filing: ETNG 2019-02-22 Negotiated Rate Cleanup Filing to be effective 3/25/2019.

Filed Date: 2/22/19.

Accession Number: 20190222-5034.

Comments Due: 5 p.m. ET 3/6/19.

Docket Numbers: RP19-683-000.

Applicants: Transcontinental Gas Pipe Line Company, LLC.

Description: § 4(d) Rate Filing: Non-Conforming—St. James Supply to be effective 4/1/2019.

Filed Date: 2/22/19.

Accession Number: 20190222-5035.

Comments Due: 5 p.m. ET 3/6/19.

Docket Numbers: RP19-684-000.

Applicants: Clear Creek Storage Company, L.L.C.

Description: Tariff Cancellation: Cancellation of Clear Creek Storage Company, L.L.C. Tariff to be effective 2/22/2019.

Filed Date: 2/22/19.

Accession Number: 20190222-5059.

Comments Due: 5 p.m. ET 3/6/19.

Docket Numbers: RP19-685-000.

Applicants: Millennium Pipeline Company, L.L.C.

Description: Operational Transactions Report of Millennium Pipeline Company, LLC under RP19-685.

Filed Date: 2/22/19.

Accession Number: 20190222-5097.

Comments Due: 5 p.m. ET 3/6/19.

Docket Numbers: RP19-686-000.

Applicants: Rockies Express Pipeline LLC.

Description: § 4(d) Rate Filing: Neg Rate 2019-02-21 Amend BHS (3) to be effective 2/21/2019.

Filed Date: 2/22/19.

Accession Number: 20190222-5137.

Comments Due: 5 p.m. ET 3/6/19.

Docket Numbers: RP19-687-000.

Applicants: Rockies Express Pipeline LLC.

Description: § 4(d) Rate Filing: Neg Rate 2019-02-22 Amend (1) BHS DTE to be effective 2/22/2019.

Filed Date: 2/22/19.

Accession Number: 20190222-5156.

Comments Due: 5 p.m. ET 3/6/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2019.
Nathaniel J. Davis, Sr.,
Deputy Secretary.

[FR Doc. 2019-03744 Filed 3-1-19; 8:45 am]

BILLING CODE 6717-01-P